DEPARTMENT OF THE INTERIOR

Fish and Wildlife Service

Final Comprehensive Conservation Plan and Environmental Impact Statement for Crab Orchard National Wildlife Refuge (NWR), Williamson, Jackson, and Union Counties, IL

AGENCY: Fish and Wildlife Service, Interior.

ACTION: Notice of availability.

SUMMARY: The U.S. Fish and Wildlife Service announces that the Final Comprehensive Conservation Plan (CCP) and Environmental Impact Statement (EIS) is available for Crab Orchard National Wildlife Refuge. The Final CCP/EIS was prepared pursuant to the National Wildlife Refuge System Administration Act of 1966, as amended by the National Wildlife Refuge System Improvement Act of 1997, and the National Environmental Policy Act of 1969. Goals and objectives in the CCP describe how the agency intends to manage the refuge over the next 15 years.

DATES: A Record of Decision will be signed by the Regional Director, U.S. Fish and Wildlife Service, Region 3, Fort Snelling, Minnesota, no sooner than 30 days after publication of this notice by the Environmental Protection Agency, in the Federal Register.

ADDRESSES: Copies of the Final CCP/EIS may be viewed at the Crab Orchard National Wildlife Refuge Headquarters and public libraries near the refuge. You may access and download a copy via the Planning Web site at http://www.fws.gov/midwest/planning/craborchard, or you may obtain a copy on compact disk by contacting: U.S. Fish and Wildlife Service, Division of Conservation Planning, Bishop Henry Whipple Federal Building, 1 Federal Drive, Fort Snelling, Minnesota 55111 (1-800-247-1247, extension 5429) or Crab Orchard National Wildlife Refuge, 8588 Route 148, Marion, IL 62959 (618-997-3344). A limited number of hardcopies will be available for distribution at the Refuge Headquarters.

FOR FURTHER INFORMATION CONTACT: Dan Frisk, 618/997-3344.

SUPPLEMENTARY INFORMATION: Located in southern Illinois and consisting of 43,888 acres, Crab Orchard NWR was established in 1947 for wildlife, agriculture, recreation, and industry. The Draft CCP/EIS was released for public review October 17, 2005, (70 FR 60364-60365, October 17, 2005) for a 90-day comment period ending January 17, 2006. The Refuge hosted a public meeting attended by 145 people. In addition, the refuge manager met with 10 groups to explain the contents of the Draft CCP/EIS and receive comments. We received comments via letters, e-mails, and comment forms from 643 correspondents and we received one petition with 592 signatures.

In response to public and agency comments, several changes were made to Alternative E, the preferred alternative, for the Final CCP/EIS. These changes include a reduction in the size of the proposed no-wake zone on Crab Orchard Lake; an increase in the size of the area proposed for gas motor use on Devils Kitchen Lake; retention of primitive sites at Devils Kitchen Campground rather than closure of the campground; inclusion of an objective and strategies for the management of conservation easements; and inclusion of an objective and strategies for management of forests to favor oak-hickory over maple. Typographical and editorial corrections were made throughout the document and additional discussion was included to clarify meaning and intentions related to the 14-day stay limit in campgrounds, recreation fee program, and the small fishing contest policy.

When the Record of Decision is available, we will publish a notice of availability in the Federal Register. The Record of Decision will document which alternative in the Final CCP/EIS will become the 15-year CCP for the Refuge.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: July 3, 2006.
Robyn Thorson,
Regional Director, U.S. Fish and Wildlife Service, Fort Snelling, Minnesota.

[FR Doc. E6-14561 Filed 8-31-06; 8:45 am]

BILLING CODE 4310-55-P